DEPARTMENT OF COMMERCE

Foreign-Trade Zones Board

[S-3-2021]

Approval of Subzone Status; Coating Place, Inc., Verona, Wisconsin

On January 6, 2021, the Executive Secretary of the Foreign-Trade Zones (FTZ) Board docketed an application submitted by Dane County, Wisconsin, grantee of FTZ 266, requesting subzone status subject to the existing activation limit of FTZ 266, on behalf of Coating Place, Inc., in Verona, Wisconsin.

The application was processed in accordance with the FTZ Act and Regulations, including notice in the Federal Register inviting public comment (86 FR 2382, January 12, 2021). The FTZ staff examiner reviewed the application and determined that it meets the criteria for approval. Pursuant to the authority delegated to the FTZ Board Executive Secretary (15 CFR 400.36(f)), the application to establish Subzone 266B was approved on March 2, 2021, subject to the FTZ Act and the Board's regulations, including Section 400.13, and further subject to FTZ 266's 648-acre activation limit.

Dated: March 2, 2021.
Andrew McGilvray,
Executive Secretary.

[FR Doc. 2021-04571 Filed 3-4-21; 8:45 am]

BILLING CODE 3510-DS-P